DEPARTMENT OF COMMERCE

National Oceanic and Atmospheric Administration

Proposed Information Collection; Comment Request; Alaska Region Bering Sea & Aleutian Islands (BSAI) Crab Economic Data Reports

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 29, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Patsy Bearden, (907) 586-7008 or Patsy.Bearden@noaa.gov.

SUPPLEMENTARY INFORMATION:

I. Abstract

This request is for an extension without change of a currently approved information collection. The National Marine Fisheries Service (NMFS) manages the crab fisheries in the waters off the coast of Alaska under the Fishery Management Plan (FMP) for the Bering Sea and Aleutian Islands (BSAI) Crab. The Magnuson-Stevens Fishery Conservation and Management Act, 16 U.S.C. 1801 et seq. (Magnuson-Stevens Act) mandated the Secretary of Commerce to implement the Crab Rationalization Program (CR Program) for the BSAI Management Area (BSAI) crab fisheries. The CR Program allocates BSAI crab resources among harvesters, processors, and coastal communities and monitors the “economic stability for harvesters, processors, and coastal communities.” The Magnuson-Stevens Act provides specific guidance on the CR Program's mandatory economic data collection report (EDR) used to assess the efficacy of the CR Program. Data from the EDR will directly contribute to ongoing evaluation of potential anti-trust and anti-competitive practices in the crab industry.

II. Method of Collection

Respondents have a choice of either electronic or paper forms. Methods of submittal include e-mail of electronic forms, online transmission, and mail transmission of paper forms.

III. Data

OMB Control Number: 0648-0518.

Form Number: None.

Type of Review: Regular submission (extension without change of a currently approved information collection).

Affected Public: Business or other for-profit organizations; not-for-profit institutions.

Estimated Number of Respondents: 131.

Estimated Time Per Response: 7 hours, 30 minutes for annual catcher vessel EDR; 12 hours, 30 minutes for annual catcher/processor EDR; 10 hours for annual stationary floating crab processor EDR; 10 hours for annual shoreside processor EDR; and 3 hours for verification of data.

Estimated Total Annual Burden Hours: 1,478.

Estimated Total Annual Cost to Public: $150,606 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 21, 2010.
Gwellnar Banks,
Management Analyst, Office of the Chief Information Officer.

[FR Doc. 2010-24240 Filed 9-27-10; 8:45 am]

BILLING CODE 3510-22-P